NUCLEAR REGULATORY COMMISSION

10 CFR Parts 2, 50, 51, 52, and 100

[NRC-2008-0222]

RIN 3150-AI05

Limited Work Authorizations for Nuclear Power Plants; Correction

AGENCY: Nuclear Regulatory Commission.

ACTION: Final rule; correction.

SUMMARY: This document corrects a final rule appearing in the Federal Register on October 9, 2007 (72 FR 57415), that amended the Nuclear Regulatory Commission's (NRC) regulations applicable to limited work authorizations (LWAs). This document is necessary to correct erroneous language to the preamble and codified language of the final rule.

DATES: The correction is effective April 28, 2008, and is applicable to November 8, 2007.

FOR FURTHER INFORMATION CONTACT: Michael T. Lesar, Chief, Rulemaking, Directives, and Editing Branch, Division of Administrative Services, Office of Administrative, U.S. Nuclear Regulatory Commission, Washington, DC 20555-0001, telephone 301-415-7163, e-mail Michael.Lesar@nrc.gov.

SUPPLEMENTARY INFORMATION: This document corrects erroneous language to the preamble and codified language of the final rule published on October 9, 2007 (72 FR 57415). Also, as published, the final regulations contain errors which may prove to be misleading and need to be clarified. The following corrects the preamble to the October 9, 2007, document.

1. On page 57427, third column, in the first paragraph, the last line is corrected to read as follows:

To ensure that the NRC has sufficient information to perform the cumulative impacts analysis in a timely fashion, the final LWA rule includes a requirement, in § 51.45(c), for the environmental report submitted by an applicant for an ESP, LWA, construction permit, or combined license to include a description of impacts of the applicant's preconstruction activities at the proposed site (i.e., the activities listed in a paragraph (2)(i) through (2)(x) in the definition of construction contained in § 51.4), that are necessary to support the construction and operation of the facility which is the subject of the ESP, LWA, construction permit, or combined license application, and an analysis of the cumulative impacts of the activities to be authorized by the ESP, LWA, construction permit, or combined license in light of the preconstruction impacts.

2. On page 57433, third column, the last paragraph is revised to read as follows:

Section 51.4 is revised by adding a new definition of “construction,” which is identical to the definition of construction in the revised § 50.10. This makes applicable throughout part 51 the definition of construction in § 50.10.

3. On page 57434, in the first column, the first paragraph is removed.

4. On page 57434, in the first column, the paragraph under § 51.45 is corrected to read as follows:

Paragraph (c) is revised by adding a new requirement requiring environmental reports for ESPs, LWAs, construction permits, and combined licenses to include a description of impacts of the applicant's preconstruction activities at the proposed site (i.e., the activities listed in paragraphs (2)(i) through (2)(x) in the definition of “construction” contained in § 51.4), that are necessary to support the construction and operation of the facility which is the subject of the ESP, LWA, construction permit, or combined license application, and an analysis of the cumulative impacts of the activities to be authorized by the ESP, LWA, construction permit, or combined license in light of the preconstruction impacts.

List of Subjects in 10 CFR Part 51

Administrative practice and procedure, Environmental impact statement, Nuclear materials, Nuclear power plants and reactors, Reporting and recordkeeping requirements.

For the reasons set out in the preamble and under the authority of the Atomic Energy Act of 1954, as amended; the Energy Reorganization Act of 1974, as amended; and 5 U.S.C. 552 and 553, the NRC is adopting the following amendment to 10 CFR part 51.

PART 51—ENVIRONMENTAL PROTECTION REGULATIONS FOR DOMESTIC LICENSING AND RELATED REGULATORY FUNCTIONS

1. The authority citation for part 51 continues to read as follows:

Authority: Sec. 161, 68 Stat. 948, as amended, sec. 1701, 106 Stat. 2951, 2952, 2953, (42 U.S.C. 2201, 2297f); secs. 201, as amended, 202, 88 Stat. 1242, as amended, 1244 (42 U.S.C. 5841, 5842); sec. 1704, 112 Stat. 2750 (44 U.S.C. 3504 note). Subpart A also issued under National Environmental Policy Act of 1969, secs. 102, 104, 105, 83 Stat. 853-854, as amended (42 U.S.C. 4332, 4334, 4335); and Pub. L. 95-604, Title II, 92 Stat. 3033-3041; and sec. 193, Pub. L. 101-575, 104 Stat. 2835 (42 U.S.C. 2243). Sections 51.20, 51.30, 51.60, 51.80. and 51.97 also issued under secs. 135, 141, Pub. L. 97-425, 96 Stat. 2232, 2241, and sec. 148, Pub. L. 100-203, 101 Stat. 1330-223 (42 U.S.C. 10155, 10161, 10168). Section 51.22 also issued under sec. 274, 73 Stat. 688, as amended by 92 Stat. 3036-3038 (42 U.S.C. 2021) and under Nuclear Waste Policy Act of 1982, sec. 121, 96 Stat. 2228 (42 U.S.C. 10141). Sections 51.43, 51.67, and 51.109 also issued under Nuclear Waste Policy Act of 1982, sec. 114(f), 96 Stat. 2216, as amended (42 U.S.C. 10134(f)).

2. In § 51.45, paragraph (c), the second complete sentence is corrected to read as follows:

§ 51.45 Environmental report.

* * * * *

(c) * * * An environmental report prepared at the early site permit stage under § 51.50(b), limited work authorization stage under § 51.49, construction permit stage under § 51.50(a), or combined license stage under § 51.50(c) must include a description of impacts of the preconstruction activities performed by the applicant at the proposed site (i.e., those activities listed in paragraphs (2)(i) through (2)(x) in the definition of “construction” contained in § 51.4), necessary to support the construction and operation of the facility which is the subject of the early site permit, limited work authorization, construction permit, or combined license application. * * *

* * * * *

Dated at Rockville, Maryland, this 18th day of April 2008.
For the Nuclear Regulatory Commission.
Annette L. Vietti-Cook,
Secretary of the Commission.

[FR Doc. E8-8890 Filed 4-25-08; 8:45 am]

BILLING CODE 7590-01-P